DEPARTMENT OF COMMERCE

National Oceanic and Atmospheric Administration

RIN 0648-XF855

Fisheries of the Caribbean, Gulf of Mexico, and South Atlantic; Gulf of Mexico Coral Habitat Management Areas

AGENCY: National Marine Fisheries Service (NMFS), National Oceanic and Atmospheric Administration (NOAA), Commerce.

ACTION: Notice of intent (NOI) to prepare a draft environmental impact statement (DEIS); request for comments.

SUMMARY: The NMFS Southeast Region, in collaboration with the Gulf of Mexico Fishery Management Council (Council), intends to prepare a DEIS to describe and analyze management alternatives to be included in Amendment 9 to the Fishery Management Plan (FMP) for the Coral and Coral Reef Resources of the Gulf of Mexico: Coral Habitat Areas Considered for Management in the Gulf of Mexico (Amendment 9). Amendment 9 will consider alternatives that would modify fishing regulations within the existing habitat areas of particular concern (HAPC) boundary of Pulley Ridge; establish new areas for HAPC status in the Gulf of Mexico (Gulf) that may include associated fishing regulations; and prohibit dredge fishing in all HAPCs that are managed with fishing regulations. These decisions would help conserve Gulf coral resources and essential fish habitat to maintain suitable marine fishery habitat to support sustainable fisheries. The purpose of this NOI is to inform the public of upcoming opportunities to provide additional comments on the scope of issues to be addressed in the DEIS, as specified in this notice.

DATES: Written comments on the scope of issues to be addressed in the DEIS must be received by NMFS by January 17, 2018.

ADDRESSES: You may submit comments on Amendment 9 identified by “NOAA-NMFS-2017-0146” by either of the following methods:

• Electronic submissions: Submit all electronic comments via the Federal e-Rulemaking Portal: http://www.regulations.gov. Go to www.regulations.gov/#!docketDetail;D=NOAA-NMFS-2017-0146, click the “Comment Now!” icon, complete the required fields, and enter or attach your comments.

• Mail: Submit all written comments to Lauren Waters, NMFS Southeast Regional Office, 263 13th Avenue South, St. Petersburg, FL 33701.

Instructions: Comments sent by any other method, to any other address or individual, or received after the end of the comment period may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Lauren Waters, NMFS Southeast Regional Office, telephone: 727-824-5305, or email: lauren.waters@noaa.gov.

SUPPLEMENTARY INFORMATION: Over 100 species of coral are included in the FMP for the Coral and Coral Reef Resources of the Gulf. In 2013, the Council held a workshop to discuss how corals may be affected by Gulf fisheries. One of the workshop recommendations was for the Council to consider additional habitat protections for new and existing coral areas in the Gulf. While designating particular sites within existing coral essential fish habitat (EFH) as HAPCs does not provide any additional specific protections to designated areas, it can be used to focus attention on those areas for future Council actions and when NMFS conducts required EFH consultations on Federal actions that may adversely affect the habitat.

In December 2014, the Council convened their Coral Working Group to discuss which areas in the Gulf may warrant specific protection for corals. The group identified 47 areas, including existing HAPCs, that may be in need of new or revised protection and recommended that new areas also be designated as HAPCs. In May 2015, the Council's Special Coral Scientific and Statistical Committee (SSC) and Coral Advisory Panel (AP) reviewed these areas along with members of the shrimp fishing community and recommended that the boundaries of some of the areas be refined based on available fishing information. In August 2016, the Council's Coral SSC, Coral AP, Shrimp AP, as well as Council invitees including royal red shrimp fishermen and bottom longline fishermen, provided input to the Council and recommended that 14 areas be designated as HAPCs with accompanying fishing regulations and 8 areas be designated without accompanying fishing regulations. Based on this input, the Council began developing Amendment 9.

NMFS, in collaboration with the Council, will develop a DEIS to describe and analyze alternatives to address the management needs described above including the “no action” alternative. The Amendment 9 DEIS will describe and analyze the modification of fishing regulations within the existing Pulley Ridge HAPC boundary, the establishment of 22 new HAPCs, and the exclusion of dredge fishing in all HAPCs that are managed with fishing regulations.

In accordance with NOAA's Administrative Order 216-6A, accompanying National Environmental Protection Act (NEPA) Procedures (companion manual), and the Scoping Process, NMFS, in collaboration with the Council, has identified preliminary environmental issues as a means to initiate discussion for scoping purposes only. The public is invited to provide written comments on the preliminary issues, which are identified as actions and alternatives in the Amendment 9 draft public hearing paper and action guide. These preliminary issues may not represent the full range of issues that eventually will be evaluated in the DEIS. A copy of the Amendment 9 draft public hearing paper and action guide are available at http://sero.nmfs.noaa.gov/sustainable_fisheries/gulf_fisheries/coral/Coral9/Coral9index.html. Additionally, public comments will be solicited at public hearings held by the Council, which are planned for spring 2018 and will be announced in the Federal Register.

After the DEIS associated with Amendment 9 is completed, it will be filed with the Environmental Protection Agency (EPA). After filing, the EPA will publish a notice of availability (NOA) of the DEIS for public comment in the Federal Register. The DEIS NOA will have a 45-day comment period. This procedure is pursuant to regulations issued by the Council on Environmental Quality (CEQ) for implementing the procedural provisions of the NEPA (40 CFR parts 1500-1508) and to NOAA's Administrative Order 216-6A regarding NOAA's compliance with NEPA and the CEQ regulations.

The Council and NMFS will consider public comments received on the DEIS in developing the final environmental impact statement (FEIS), and before the Council votes to submit Amendment 9 to NMFS for Secretarial review and implementation under the Magnuson-Stevens Act. NMFS will announce in the Federal Register the availability of the final amendment and FEIS for public review during the Secretarial review period, and will consider all public comments prior to final agency action to approve, disapprove, or partially approve the final amendment. During Secretarial review, NMFS will also file the FEIS with the EPA and the EPA will publish an NOA for the FEIS in the Federal Register.

NMFS will announce, through a notice published in the Federal Register, all public comment periods on the final amendment, the proposed implementing regulations, and the availability of the associated FEIS. NMFS will consider all public comments received during the Secretarial review period, whether they are on the final amendment, the proposed regulations, or the FEIS, prior to final agency action.

Authority: 16 U.S.C. 1801 et seq.

Dated: December 12, 2017.
Emily H. Menashes,
Acting Director, Office of Sustainable Fisheries, National Marine Fisheries Service.

[FR Doc. 2017-27142 Filed 12-15-17; 8:45 am]

BILLING CODE 3510-22-P